DEPARTMENT OF COMMERCE

International Trade Administration

[A-583-816]

Certain Stainless Steel Butt-Weld Pipe Fittings from Taiwan: Notice of Extension of Time Limit for the Final Results of Antidumping Duty Administrative Review

AGENCY: Import Administration, International Trade Administration, Department of Commerce.

SUMMARY: The Department of Commerce (the Department) is extending the time limit for the final results of the administrative review of the antidumping duty order on certain stainless steel butt-weld pipe fittings from Taiwan. The period of review is June 1, 2005, through May 31, 2006. This extension is made pursuant to section 751(a)(3)(A) of the Tariff Act of 1930, as amended (the Act).

EFFECTIVE DATE: October 25, 2007.

FOR FURTHER INFORMATION CONTACT: Judy Lao or John Drury, Office 7, AD/CVD Operations, Import Administration, International Trade Administration, U.S. Department of Commerce, 14th Street and Constitution Avenue, NW, Washington, DC 20230, telephone: (202) 482-7924 and (202) 482-0195, respectively.

SUPPLEMENTARY INFORMATION:

Background

On July 2, 2007, the Department published the preliminary results of the administrative review of the antidumping duty order on certain stainless steel butt-weld pipe fittings from Taiwan covering the period June 1, 2005, through May 31, 2006. See Certain Stainless Steel Butt-Weld Pipe Fittings from Taiwan: Preliminary Results of Antidumping Duty Administrative Review and Intent to Rescind in Part, 72 FR 35970 (July 2, 2007). The final results for the antidumping duty administrative review of certain stainless steel butt-weld pipe fittings from Taiwan are currently due no later than October 30, 2007.

Extension of Time Limits for Final Results

Section 751(a)(3)(A) of the Act requires the Department to issue the results in an administrative review within 120 days of the publication of the preliminary results. However, if it is not practicable to complete the review within this time period, section 751(a)(3)(A) of the Act allows the Department to extend the time limit for the final results to 180 days (or 300 days if the Department does not extend the time limit for the preliminary results) from the date of publication of the preliminary results.

In accordance with section 751(a)(3)(A) of the Act, and 19 CFR 351.213(h)(2), the Department finds that it is not practicable to complete the review within the original time frame (i.e., by October 30, 2007). Specifically, the Department requires additional time to review complex issues raised in the case briefs. In addition, the Department accepted new factual information late in the proceeding and finds it necessary to take additional time to complete an analysis of that information. Because it is not practicable to complete this administrative review within the time limit mandated by section 751(a)(3)(A) of the Act and 19 CFR 351.213(h)(2), the Department is extending the time limit for completion of the final results of this administrative review by 45 days, to no later than December 14, 2007.

This notice is published pursuant to sections 751(a)(1) and 777(i)(1) of the Act.

Dated: October 18, 2007.
Stephen J. Clays,
Acting Deputy Assistant Secretary for Import Administration.

[FR Doc. E7-21037 Filed 10-24-07; 8:45 am]

BILLING CODE 3510-DS-S